DEPARTMENT OF HOMELAND SECURITY

Coast Guard

[CGD17-04-003]

Application for Recertification of Prince William Sound Regional Citizens’ Advisory Council

AGENCY: Coast Guard, DHS.

ACTION: Notice of application submission deadline; request for comments.

SUMMARY: Under the Oil Terminal and Oil Tanker Environmental Oversight and Monitoring Act of 1990, the Coast Guard may certify, on an annual basis, an alternative voluntary advisory group in lieu of a Regional Citizens’ Advisory Council for Prince William Sound. The current certification for Prince William Sound Regional Citizens’ Advisory Council (PWSRCAC) will expire February 28, 2005. This notice announces the procedures governing PWSRCAC's recertification for the period March 1, 2005 through February 28, 2006. This period falls under the comprehensive submission provision of 67 FR 58440. Accordingly, PWSRCAC must construct their submission in a format that both follows the order of, and answers the information specified in 57 FR 62600 guidelines.

DATES: Public comments on PWSRCAC's recertification application must reach the Seventeenth Coast Guard District on or before February 1, 2005.

ADDRESSES: Comments should be mailed to the Seventeenth Coast Guard District (mor), P.O. Box 25517, Juneau, AK 99802-5517. Or, hand carried documents may be delivered to the Juneau Federal Building, 709 West 9th Street, Room 753, Juneau, AK between 8 a.m. and 4 p.m., Monday through Friday, except federal holidays.

The Seventeenth Coast Guard District maintains the public docket for this recertification process. The application and comments regarding recertification will become part of this docket and will be available for inspection or copying at the Juneau Federal Building, 709 West 9th Street, Room 753.

A copy of the application will also be available for inspection at the PWSRCAC offices at 3709 Spenard Road, Anchorage, AK and 154 Fairbanks Drive, Valdez, AK between the hours of 8 a.m. and 5 p.m., Monday through Friday, except federal holidays. The telephone number in Anchorage is (907) 277-7222, Valdez (907) 835-5957.

FOR FURTHER INFORMATION CONTACT: For questions on viewing or submitting material to the docket, contact LT Andy Vanskike, Seventeenth Coast Guard District (mor), (907)463-2818.

SUPPLEMENTARY INFORMATION:

Request for Comments

The Coast Guard encourages interested persons to submit written data, views, or arguments. We solicit comments from interested groups including oil terminal facility owners and operators, owners and operators of crude oil tankers calling at terminal facilities, and fishing, aqua cultural, recreational and environmental citizens groups, concerning the recertification application of PWSRCAC. Persons submitting comments should include their names and addresses, identify this notice (CGD17-04-003), the specific section of the document to which each comment applies, and give the reason for each comment. Please submit all comments and attachments in an unbound format, no larger than 8½ by 11 inches, suitable for copying and electronic filing. Persons wanting acknowledgement of receipt of comments should enclose stamped, self-addressed postcards or envelopes.

The Coast Guard plans no public hearing. Persons may request a public hearing by writing to Commander (m), Seventeenth Coast Guard District, P.O. Box 25517, Juneau, AK 99802-5517. The request should include reasons why a hearing would be beneficial. If there is sufficient evidence to determine that oral presentations will aid this recertification process, the Coast Guard will hold a public hearing at a time and place announced by a later notice in the Federal Register.

Background and Purpose

The Coast Guard published guidelines on December 31, 1992 (57 FR 62600) to assist groups seeking recertification under the Oil Terminal and Oil Tanker Environmental Oversight and Monitoring Act of 1990 (33 U.S.C. 2732)(the Act). The Coast Guard issued a policy statement on July 7, 1993 (58 FR 36504) to clarify the factors that the Coast Guard would be considering in making its determination as to whether advisory groups should be certified in accordance with the Act; and the procedures which the Coast Guard would follow in meeting its certification responsibilities under the Act. Most recently, on September 16, 2002 (67 FR 58440) the Coast Guard changed its policy on recertification procedures for RCACs by requiring applicants to provide comprehensive information every three years. For the two years in between, applicants only submit information describing substantive changes to the information provided at the last triennial recertification.

At the conclusion of the comment period, February 1, 2005, the Coast Guard will review all application materials and comments received and will take one of the following actions:

(a) Recertify the advisory group under 33 U.S.C. 2732(o).

(b) Issue a conditional recertification for a period of 90 days, with a statement of any discrepancies, which must be corrected to qualify for recertification for the remainder of the year.

(c) Deny recertification of the advisory group if the Coast Guard finds that the group is not broadly representative of the interests and communities in the area or is not adequately fostering the goals and purposes of 33 U.S.C. 2732.

The Coast Guard will notify PWSRCAC by letter of the action taken on their respective applications. A notice will be published in the Federal Register to advise the public of the Coast Guard's determination.

Dated: December 27, 2004.
James C. Olson,
Rear Admiral, U.S. Coast Guard, Commander, Seventeenth Coast Guard District.

[FR Doc. 05-534 Filed 1-11-05; 8:45 am]

BILLING CODE 4910-15-P